DEPARTMENT OF TRANSPORTATION

Pipeline and Hazardous Materials Safety Administration

[Docket No. PHMSA-2011-0027]

Pipeline Safety: Request for Special Permit

AGENCY: Pipeline and Hazardous Materials Safety Administration (PHMSA); DOT.

ACTION: Notice.

SUMMARY: Pursuant to the Federal pipeline safety laws, PHMSA is publishing this notice of special permit requests we have received from several natural gas and hazardous liquid pipeline operators, seeking relief from compliance with certain requirements in the Federal pipeline safety regulations. This notice seeks public comments on these requests, including comments on any safety or environmental impacts. At the conclusion of the 30-day comment period, PHMSA will evaluate the requests and determine whether to grant or deny a special permit.

DATES: Submit any comments regarding these special permit requests by April 4, 2011.

ADDRESSES: Comments should reference the docket numbers for the specific special permit request and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: DOT Docket Management System: U.S. Department of Transportation, Docket Operations, M-30, West Building Ground Floor, Room W12-140, 1200 New Jersey Avenue, SE., Washington, DC 20590 between 9 a.m. and 5 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Dana Register by telephone at 202-366-0490 or e-mail at dana.register@dot.gov.

Technical: Steve Nanney by telephone at 713-272-2855 or e-mail at steve.nanney@dot.gov.

SUPPLEMENTARY INFORMATION: PHMSA has received requests for special permits from pipeline operators who seek relief from compliance with certain pipeline safety regulations. Each request includes a technical analysis provided by the respective operator. Each request is filed at http://www.Regulations.gov, and has been assigned a separate docket number. We invite interested persons to participate by reviewing these special permit requests at http://www.Regulations.gov, and by submitting written comments, data or other views. Please include any comments on potential environmental impacts that may result if these special permits are granted or denied.

Before acting on these special permit requests, PHMSA will evaluate all comments received on or before the comments closing date. Comments will be evaluated after this date if it is possible to do so without incurring additional expense or delay. PHMSA will consider each relevant comment we receive in making our decision to grant or deny a request.

PHMSA has received the following special permit requests:

Docket No. | Requester | Regulation(s) | Nature of special permit
PHMSA-RSPA-2003-15733 | TransCanada Pipelines Limited (TCPL) (Operator of Portland Natural Gas Transmission System (PNGTS) | 49 CFR 192.611(a) | TCPL petitions PHMSA for modification of an existing special permit, PHMSA-RSPA-2003-15733, issued to PNGTS on March 4, 2004. TCPL proposes modification of special permit conditions (1) through (6) with alternative special permit conditions. The special permit area of PHMSA-RSPA-2003-15733 is located in Coos County, New Hampshire and is a 24-inch mainline natural gas pipeline, 595 feet in length. The first segment of the special permit area is located at Survey Station 148+52 feet (Mile Post 2.81) to Survey Station 152+92 feet (Mile Post 2.90). The second special permit segment is located at Survey Station 174 + 25 feet (Mile Post 3.30) to Survey Station 175+80 feet (Mile Post 3.33). Both special permit segments are located in Coos County, New Hampshire. Proposed new special permit segment 3 (new segment application on June 9, 2010) is defined as the PNGTS 24-inch Mainline pipeline beginning at Survey Station 171+17 feet (Mile Post 3.24). The special permit segment extends for 308 feet along the PNGTS 24-inch Mainline and concludes at Survey Station 174 + 25 feet (Mile Post 3.30). The special permit segment 3 is located in Coos County, New Hampshire.
PHMSA-2010-0148 | TCPL (Operator of PNGTS) | 49 CFR 192.611(a) | To authorize TCPL to engage in an alternative approach to conduct risk control activities based on Integrity Management Program principles rather than lowering the Maximum Allowable Operating Pressure (MAOP) or replacing the subject pipe segment. This application is for one segment of the PNGTS natural gas mainline in Coos County, New Hampshire. This segment has changed from a Class 2 location (original Class 1 location) to a Class 3 location due to construction of new single family homes within 660 feet of the pipeline. The pipeline is 24 inches in diameter and has a MAOP of 1,440 psig. The segment that has changed class location is 114 feet in length and is located from Survey Station 3705 + 59 feet (Mile Post 70.18), to Survey Station 3706 + 73 feet (Mile Post 70.20).
PHMSA-2010-0261 | Buckeye Partners, L.P. (Buckeye) | 49 CFR 195.452(h)(4) (i)(D) | To authorize Buckeye a waiver from the Federal regulations to repair requirements for a dent on the top of pipe greater than 6% of the nominal pipe diameter. The 8.2 percent deep dent (5.3 inches long by 7 inches wide at the 12:45 o'clock position) is located 75 feet off the north bank of the Delaware River. The 8.625-inch diameter pipe is installed in a 12-inch casing pipe. This request is for the 2.64 miles long, 8-inch PY742PL pipeline that connects from the Paulsboro refinery in New Jersey to the Philadelphia Airport. The pipeline is operated to a MAOP of 274 psig. This 8.625-inch diameter by 0.322-inch pipeline transports jet fuel.
PHMSA-2010-0262 | Wyoming Interstate Company (WIC) | 49 CFR 192.11 (c)(1), 192.112(c) (2), 192.620(a)(2)(ii) | To authorize WIC to operate 60.23 miles of the 24-inch 123.9 miles Kanda Lateral at an alternate MAOP. The request is to operate 32.85 miles at 77.7% of specified maximum yield strength (SMYS) and to operate 27.38 miles at 75.2% SMYS. The entire length of the pipeline is in a Class 1 location with seven dwellings intended for human occupancy, located within 660 feet of the existing pipeline route. Presently, 49 CFR Part 192 limits this pipeline to an operating stress of 72% SMYS in Class 1 locations. The Kanda Lateral begins in Uintah County, Utah with a northerly route into Southwestern Wyoming and terminates in Sweetwater County, Wyoming. The pipeline was constructed and placed into service in 2007.
PHMSA-2010-0041 | Williams Gas Pipeline (WGP), owner and operator of the Transcontinental Gas Pipeline (Transco) | 49 CFR 192.150 | WGP has petitioned PHMSA for relief from the Federal pipeline safety regulations in 49 CFR § 192.150 for one 2,100-foot 30-inch segment of the Transco natural gas system where a portion of Mainline “A” is currently unable to pass internal inspection devices. This is due to WGP's inability to replace the 2,100-foot 30-inch section of the Transco pipeline crossing the Brandywine Creek with 42-inch pipe. This 2,100-foot segment of 30-inch pipeline is part of the Downingtown Replacement Project and is located from Mile Post 1715.62 (Survey Station 2274 + 55) to Mile Post 1716.03 (Survey Station 2296+06) in Chester County, Pennsylvania. The Downingtown Replacement Project included the replacement of a total of approximately 7.15 miles of 30-inch pipe with 42-inch pipe on the Transco Mainline “A” from Mile Post 1715.09 (Downingtown Meter Station) to Mile Post 1722.24 (Compressor Station 200) located in Chester County, Pennsylvania. WGP proposes to use alternative integrity management methods to provide a level of safety equivalent to those provided by Federal safety regulations for this 2,100-foot section of 30-inch pipeline, until it can be replaced with 42-inch pipe. To confirm the integrity of the 30-inch pipeline, WGP has hydrostatically retested the existing 30-inch pipeline from Mile Post 1715.62 to Mile Post 1716.03 for eight hours at 910 psig.
PHMSA-2010-0192 | TCPL-American Natural Resources (ANR) | 49 CFR 192.611(a) | To authorize TCPL-ANR to engage in an alternative approach to conduct risk control activities based on Integrity Management Program principles rather than lowering the MAOP or replacing the subject pipe segment. This application is for one segment of the TCPL-ANR Lateral Loop 2-716 located in St. Martin Parish, Louisiana. This segment has changed from a Class 2 location (original Class 1 location) to a Class 3 location due to new single family dwellings built within 660 feet of the pipeline. The pipeline is 30 inches in diameter and has a MAOP of 1,050 psig. The segment that has changed class location is 3,149 feet in length and is located at Station 584 + 66 feet to Station 616+15 feet in St. Martin Parish, Louisiana.

Authority: 49 U.S.C. 60118 (c)(1) and 49 CFR 1.53.

Issued in Washington, DC, on February 24, 2011.
Jeffrey D. Wiese,
Associate Administrator for Pipeline Safety.

[FR Doc. 2011-4708 Filed 3-2-11; 8:45 am]

BILLING CODE 4910-60-P